DEPARTMENT OF DEFENSE

Office of the Secretary

[Docket ID: DOD-2010-OS-0085]

Privacy Act of 1974; System of Records

AGENCY: Department of Defense (DoD).

ACTION: Notice to alter a system of records.

SUMMARY: The Office of the Secretary of Defense proposes to alter a system of records in its inventory of record systems subject to the Privacy Act of 1974 (5 U.S.C. 552a), as amended.

DATES: This proposed action will be effective without further notice on July 28, 2010, unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington, DC 20301-1155.

The proposed system report, as required by 5 U.S.C. 552a(r) of the Privacy Act of 1974, as amended, was submitted on June 14, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: June 23, 2010.
Mitchell S. Bryman,
Alternate OSD Federal Register Liaison Officer, Department of Defense.

DWHS D01

System name:

Pentagon Parking/national Capital Region Transit Subsidy Program (May 3, 2007; 72 FR 24574).

Changes:

* * * * *

System name:

Delete entry and replace with “DoD National Capital Region Mass Transportation Benefit Program.”

System location:

Delete entry and replace with “Washington Headquarters Services, Information Technology and Management Directorate, Department of Defense, 1155 Defense Pentagon, Washington, DC 20301-1155.”

Categories of individuals covered by the system:

Delete entry and replace with “DoD military and civilian personnel assigned to the National Capital Region applying for and/or obtaining a public fare transportation subsidy.”

Categories of records in the system:

Delete entry and replace with “Name, last four of Social Security Number (SSN), point-to-point commuting expenses, type of mass transit used, city, state, and ZIP+4 of residence, organizational affiliation of the individual, office work number, DoD e-mail address, duty/work address. Individuals participating in a pilot program also provide their Smartrip card number.”

Authority for maintenance of the system:

Delete entry and replace with “5 U.S.C. 301, Departmental Regulations; 5 U.S.C. 7905, Programs to encourage commuting by means other than single-occupancy motor vehicles; DoD Instruction 1000.27, Mass Transportation Benefit Program; E.O. 12191, Federal Facility Ridesharing Program; E.O. 13150, Federal Workforce Transportation; and E.O. 9397 (SSN), as amended.”

Purpose(s):

Delete entry and replace with “To manage the DoD National Capital Region Mass Transportation Benefit Program for DoD military and civilian personnel applying for and in receipt of fare subsidies.”

Routine uses of records maintained in the system, including categories of users and the purposes of such uses:

Delete entry and replace with, “In addition to those disclosures generally permitted under 5 U.S.C. 552a(b) of the Privacy Act of 1974, these records may specifically be disclosed outside the DoD as a routine use pursuant to 5 U.S.C. 552a(b)(3) as follows:

To the Department of Transportation for purposes of administering the DoD National Capital Region Public Transportation Benefit Program and/or verifying the eligibility of individuals to receive a fare subsidy pursuant to the transportation benefit program operated by the DoD.

To the Washington Metro Area Transit Authority for the purpose of crediting fare subsidies directly to the Smartrip Card of DoD military or civilian employees participating in the SmartBenefit pilot program.

The DoD `Blanket Routine Uses' set forth at the beginning of the Office of the Secretary of Defense compilation of systems of records notices apply to this system of records.”

* * * * *

Retrievability:

Delete entry and replace with “Individual's name and last four of Social Security Number (SSN).”

* * * * *

System manager(s) and address:

Delete entry and replace with “Chief, Defense Facilities Directorate, Washington Headquarters Services, 1155 Defense Pentagon, Washington, DC 20301-1155.”

Notification procedure:

Delete entry and replace with “Individuals seeking to determine whether information about themselves is contained in this system should address written inquiries to the Chief, Defense Facilities Directorate, Washington Headquarters Services, 1155 Defense Pentagon, Washington, DC 20301-1155.

Written requests for information should contain the full name of the individual and last four of Social Security Number (SSN).”

Record access procedures:

Delete entry and replace with “Individuals seeking access to information about themselves contained in this system should address written inquiries to the Office of the Secretary of Defense/Joint Staff Freedom of Information Act Requester Service Center, 1155 Defense Pentagon, Washington, DC 20301-1155.

Written requests for information should contain the full name of the individual, last four of Social Security Number (SSN), and include the name and number of this system of record notice and be signed by the individual.”

Contesting record procedures:

Delete entry and replace with “The Office of the Secretary of Defense rules for accessing records, for contesting contents and appealing initial agency determinations are published in Office of the Secretary of Defense Administrative Instruction 81; 32 CFR part 311; or may be obtained from the system manager.”

Record source categories:

Delete entry and replace with “Applications for mass transportation benefit program submitted by the individual.”

* * * * *

DWHS D01

System name:

DoD National Capital Region Mass Transportation Benefit Program.

System location:

Washington Headquarters Services, Information Technology and Management Directorate, Department of Defense, 1155 Defense Pentagon, Washington, DC 20301-1155.

Categories of individuals covered by the system:

DoD military and civilian personnel assigned to the National Capital Region applying for and/or obtaining a public fare transportation subsidy.

Categories of records in the system:

Name, last four of Social Security Number (SSN), point-to-point commuting expenses, type of mass transit used, city, state, and ZIP+4 of residence, organizational affiliation of the individual, office work number, DoD email address, duty/work address. Individuals participating in a pilot program also provide their Smartrip card number.

Authority for maintenance of the system:

5 U.S.C. 301, Departmental Regulations; 5 U.S.C. 7905, Programs to encourage commuting by means other than single-occupancy motor vehicles; DoD Instruction 1000.27, Mass Transportation Benefit Program; E.O. 12191, Federal Facility Ridesharing Program; E.O. 13150, Federal Workforce Transportation; and E.O. 9397 (SSN), as amended.

Purpose(s):

To manage the DoD National Capital Region Mass Transportation Benefit Program for DoD military and civilian personnel applying for and in receipt of fare subsidies.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Department of Transportation for purposes of administering the DoD National Capital Region Public Transportation Benefit Program and/or verifying the eligibility of individuals to receive a fare subsidy pursuant to the transportation benefit program operated by the DoD.

To the Washington Metro Area Transit Authority for the purpose of crediting fare subsidies directly to the Smartrip Card of DoD military or civilian employees participating in the SmartBenefit pilot program.

The DoD `Blanket Routine Uses' set forth at the beginning of the Office of the Secretary of Defense compilation of systems of records notices apply to this system of records.

Policies and practices for storing, retrieving, accessing, retaining, and disposing of records in the system:

Storage:

Paper records in file folders and electronic storage media.

Retrievability:

Individual's name and last four of Social Security Number (SSN).

Safeguards:

Records are stored in a secured area accessible only to authorized personnel. Records are accessed by the custodian of the record system and by persons responsible for using or servicing the system, who are properly screened and have a need-to-know. Computer hardware is located in controlled areas with access limited to authorized personnel.

Retention and disposal:

Disposition pending. Until the National Archives and Records Administration has approved the disposition schedule for these records, treat them as permanent.

System manager(s) and address:

Chief, Defense Facilities Directorate, Washington Headquarters Services, 1155 Defense Pentagon, Washington, DC 20301-1155.

Notification procedure:

Individuals seeking to determine whether information about themselves is contained in this system should address written inquiries to the Chief, Defense Facilities Directorate, Washington Headquarters Services, 1155 Defense Pentagon, Washington, DC 20301-1155.

Written requests for information should contain the full name of the individual and last four of Social Security Number (SSN).

Record access procedures:

Individuals seeking access to information about themselves contained in this system should address written inquiries to the Office of the Secretary of Defense/Joint Staff Freedom of Information Act Requester Service Center, 1155 Defense Pentagon, Washington, DC 20301-1155.

Written requests for information should contain the full name of the individual, last four of Social Security Number (SSN), and include the name and number of this system of record notice and be signed by the individual.

Contesting record procedures:

The Office of the Secretary of Defense rules for accessing records, for contesting contents and appealing initial agency determinations are published in Office of the Secretary of Defense Administrative Instruction 81; 32 CFR part 311; or may be obtained from the system manager.

Record source categories:

Applications for mass transportation benefit program submitted by the individual.

Exemptions claimed for the system:

None.

[FR Doc. 2010-15635 Filed 6-25-10; 8:45 am]

BILLING CODE 5001-06-P